DEPARTMENT OF THE INTERIOR

Bureau of Safety and Environmental Enforcement

[DOI-2018-0016; 19XE1700DX EECC000000 EX1EX0000.G40000]

Privacy Act of 1974; System of Records

AGENCY: Bureau of Safety and Environmental Enforcement, Interior.

ACTION: Rescindment of systems of records notices.

SUMMARY: In accordance with the Privacy Act of 1974, as amended, the Department of the Interior is rescinding six systems of records notices from its existing inventory. These systems were managed by the former Minerals Management Service when they were superseded by Department-wide system of records notices; however, they were not formally rescinded. Subsequently, upon the dissolution of Minerals Management Service, responsibility for the six systems of records was transferred to the Bureau of Safety and Environmental Enforcement. This notice formally rescinds the six systems of records notices identified below.

DATES: These changes take effect upon publication.

ADDRESSES: You may submit comments, identified by docket number [DOI-2018-0016], by any of the following methods:

• Federal e-Rulemaking Portal: http://www.regulations.gov. Follow the instructions for submitting comments.

• Mail: Teri Barnett, Departmental Privacy Officer, U.S. Department of the Interior, 1849 C Street NW, Room 7112, Washington, DC 20240.

• Hand-delivering comments to Teri Barnett, Departmental Privacy Officer, U.S. Department of the Interior, 1849 C Street NW, Room 7112, Washington, DC 20240.

• Email: DOI_Privacy@ios.doi.gov.

All submissions received must include the agency name and docket number. All comments received will be posted without change to http://www.regulations.gov, including any personal information provided. You should be aware your entire comment including your personal identifying information, such as your address, phone number, email address, or any other personal identifying information in your comment, may be made publicly available at any time. While you may request to withhold your personal identifying information from public review, we cannot guarantee we will be able to do so.

FOR FURTHER INFORMATION CONTACT: Rowena Dufford, Associate Privacy Officer, Bureau of Safety and Environmental Enforcement, 45600 Woodland Road, Mail Stop VAE-MSD, Sterling, VA 20166, email at privacy@bsee.gov or by telephone at (703) 787-1257.

SUPPLEMENTARY INFORMATION: Pursuant to the provisions of the Privacy Act of 1974, as amended, the Department of the Interior (DOI), Bureau of Safety and Environmental Enforcement (BSEE) is rescinding the following six systems of records notices, which were previously managed by the former Minerals Management Service (MMS), from its inventory of system notices.

• INTERIOR/MMS-2, Personal Property Accountability Records

• INTERIOR/MMS-3, Accident Reports and Investigations

• INTERIOR/MMS-4, Personnel Security System

• INTERIOR/MMS-5, Telephone/Employee Locator System

• INTERIOR/MMS-8, Advanced Budget/Accounting Control and Information System

• INTERIOR/MMS-9, Employee Counseling Services Program

The systems of records identified above were last published in their entirety in the Federal Register at 64 FR 8111-8118 (February 18, 1999). MMS published a notice in the Federal Register at 74 FR 42922 (August 25, 2009) to add a new routine use for each system of records to authorize disclosure of information to appropriate agencies, entities, and persons in the event of a data breach, in accordance with Office of Management and Budget Memorandum M-07-16, Safeguarding Against and Responding to the Breach of Personally Identifiable Information.

In May 2010, Secretary's Order 3299 directed the division of MMS into three independent entities with separate and clearly defined missions: BSEE, the Bureau of Ocean Energy Management, and the Office of Natural Resources Revenue. Responsibilities for these system of records notices transferred to BSEE. These six systems of records have been incorporated into DOI systems of records that are covered by published Department-wide systems of records notices, and are no longer being maintained under MMS systems of records notices. Rescinding these systems of records will have no adverse impacts on individuals. This rescindment will also promote the overall streamlining and management of Department of the Interior Privacy Act systems of records. This notice hereby rescinds the MMS system of records notices identified below.

SYSTEM NAME AND NUMBER:

1. INTERIOR/MMS-2, Personal Property Accountability Records, 64 FR 8111 (February 18, 1999). The records contained in the system of records are covered by and maintained in INTERIOR/DOI-58, Employee Administrative Records, 64 FR 19384 (April 20, 1999).

2. INTERIOR/MMS-3, Accident Reports and Investigations, 64 FR 8112 (February 18, 1999). The records contained in the system of records are covered by and maintained in INTERIOR/DOI-60, Safety Management Information System, 81 FR 73135 (October 24, 2016).

3. INTERIOR/MMS-4, Personnel Security System, 64 FR 8113 (February 18, 1999). The records contained in the system of records are covered by and maintained in INTERIOR/DOI-45, HSPD-12: Identity Management System and Personnel Security Files, 72 FR 11036 (March 12, 2007); INTERIOR/DOI-46, HSPD-12: Physical Security Files, 72 FR 11043 (March 12, 2007); and INTERIOR/DOI-47, HSPD-12: Logical Security Files (Enterprise Access Control Service/EACS), 72 FR 11040 (March 12, 2007).

4. INTERIOR/MMS-5, Telephone/Employee Locator System, 64 FR 8115 (February 18, 1999). The records contained in the system of records are covered by and maintained in INTERIOR/DOI-58, Employee Administrative Records, 64 FR 19384 (April 20, 1999).

5. INTERIOR/MMS-8, Advanced Budget/Accounting Control and Information System, 64 FR 8116 (February 18, 1999). The records contained in the system of records are covered by and maintained in three Department-wide systems of records: INTERIOR/DOI-86, Accounts Receivable: FBMS, 73 FR 43772 (July 28, 2008); INTERIOR/DOI-87, Acquisition of Goods and Services: FBMS, 73 FR 43766 (July 28, 2008); INTERIOR/DOI-88, Travel Management: FBMS, 73 FR 43769 (July 28, 2008).

6. INTERIOR/MMS-9, Employee Counseling Services Program, 64 FR 8117 (February 18, 1999). The records contained in the system of records are covered by and maintained in INTERIOR/DOI-04, Employee Assistance Program Records, 64 FR 20011 (April 23, 1999).

HISTORY:

1. INTERIOR/MMS-2, Personal Property Accountability Records, 64 FR 8111 (February 18, 1999); modification published at 74 FR 42922 (August 25, 2009).

2. INTERIOR/MMS-3, Accident Reports and Investigations, 64 FR 8112 (February 18, 1999); modification published at 74 FR 42922 (August 25, 2009).

3. INTERIOR/MMS-4, Personnel Security System, 64 FR 8113 (February 18, 1999); modification published at 74 FR 42922 (August 25, 2009).

4. INTERIOR/MMS-5, Telephone/Employee Locator System, 64 FR 8115 (February 18, 1999); modification published at 74 FR 42922 (August 25, 2009).

5. INTERIOR/MMS-8, Advanced Budget/Accounting Control and Information System, 64 FR 8116 (February 18, 1999); modification published at 74 FR 42922 (August 25, 2009).

6. INTERIOR/MMS-9, Employee Counseling Services Program, 64 FR 8117 (August 25, 2009); modification published at 74 FR 42922 (August 25, 2009).

Teri Barnett,
Departmental Privacy Officer, Department of the Interior.

[FR Doc. 2019-12151 Filed 6-7-19; 8:45 am]

BILLING CODE 4310-VH-P